DEPARTMENT OF HOMELAND SECURITY

Federal Emergency Management Agency

[Docket ID FEMA-2015-0001; Internal Agency Docket No. FEMA-B-1556]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: January 5, 2016.
Roy E. Wright,
Deputy Associate Administrator for Insurance and Mitigation, Department of Homeland Security, Federal Emergency Management Agency.

State and county | Location and case No. | Chief executive officer of community | Community map repository | Online location of letter of map revision | Effective date of modification | Community No.
Arizona: Maricopa | City of Peoria (14-09-4245P) | The Honorable Cathy Carlat, Mayor, City of Peoria, 8401 West Monroe Street, Peoria, AZ 85345 | City Hall, 8401 West Monroe Street, Peoria, AZ 85345 | http://www.msc.fema.gov/lomc | Mar. 18, 2016 | 040050
Maricopa | Town of Buckeye (15-09-0476P) | The Honorable Jackie A. Meck, Mayor, Town of Buckeye, 530 East Monroe Avenue, Buckeye, AZ 85326 | Town Hall, 100 North Apache Street, Suite A, Buckeye, AZ 85326 | http://www.msc.fema.gov/lomc | Feb. 19, 2016 | 040039
Maricopa | Town of Buckeye (15-09-1721P) | The Honorable Jackie A. Meck, Mayor, Town of Buckeye, 530 East Monroe Avenue, Buckeye, AZ 85326 | Engineering Department, 530 East Monroe Avenue, Buckeye, AZ 85326 | http://www.msc.fema.gov/lomc | Mar. 4, 2016 | 040039
Maricopa | Unincorporated areas of Maricopa County (15-09-0476P) | The Honorable Steve Chucri, Chairman, Board of Supervisors, Maricopa County, 301 West Jefferson Street, 10th Floor, Phoenix, AZ 85003 | Flood Control District of Maricopa County, 2801 West Durango Street, Phoenix, AZ 85009 | http://www.msc.fema.gov/lomc | Feb. 19, 2016 | 040037
Pima | Unincorporated areas of Pima County (15-09-0394P) | The Honorable Sharon Bronson, Chair, Board of Supervisors, Pima County, 130 W. Congress Street, 11th Floor, Tucson, AZ 85701 | Pima County Flood Control District, 97 East Congress Street, 3rd Floor, Tucson, AZ 85701 | http://www.msc.fema.gov/lomc | Mar. 21, 2016 | 040073
Pima | Town of Marana (15-09-1240P) | The Honorable Ed Honea, Mayor, Town of Marana, 11555 W. Civic Center Drive, Marana, AZ 85653 | Engineering Department, 11555 West Civic Center Drive, Marana, AZ 85653 | http://www.msc.fema.gov/lomc | Feb. 11, 2016 | 040118
Pima | Unincorporated areas of Pima County (15-09-2370P) | The Honorable Sharon Bronson, Chair, Board of Supervisors, Pima County, 130 West Congress Street, 11th Floor, Tucson, AZ 85701 | Pima County Flood Control District, 97 East Congress Street, 3rd Floor, Tucson, AZ 85701 | http://www.msc.fema.gov/lomc | Feb. 12, 2016 | 040073
Pinal | Unincorporated areas of Pinal County (15-09-1991P) | The Honorable Cheryl Chase, Chair, Board of Supervisors, Pinal County, 135 North Pinal Street, Florence, AZ 85132 | Pinal County Engineering Department, 31 North Pinal Street, Building F, Florence, AZ 85132 | http://www.msc.fema.gov/lomc | Feb. 11, 2016 | 040077
Pinal | Unincorporated areas of Pinal County (15-09-2521P) | The Honorable Cheryl Chase, Chair, Board of Supervisors, Pinal County, 135 North Pinal Street, Florence, AZ 85132 | Pinal County Engineering Department, 31 North Pinal Street, Building F, Florence, AZ 85132 | http://www.msc.fema.gov/lomc | Mar. 2, 2016 | 040077
California: Alameda | City of Dublin (15-09-1152P) | The Honorable David Haubert, Mayor, City of Dublin, 100 Civic Plaza, Dublin, CA 94568 | Building Department, 100 Civic Plaza, Dublin, CA 94568 | http://www.msc.fema.gov/lomc | Mar. 8, 2016 | 060705
Kern | City of Bakersfield (13-09-2248P) | The Honorable Harvey Hall, Mayor, City of Bakersfield, 1600 Truxtun Avenue, Bakersfield, CA 93301 | Public Works, 1501 Truxtun Avenue, Bakersfield, CA 93301 | http://www.msc.fema.gov/lomc | Mar. 29, 2016 | 060077
Kern | Unincorporated areas of Kern County (13-09-2248P) | The Honorable David Couch, Chairman, Board of Supervisors, Kern County, 1115 Truxtun Avenue, 5th Floor, Bakersfield, CA 93301 | Planning Department, 2700 M Street, Suite 100, Bakersfield, CA 93301 | http://www.msc.fema.gov/lomc | Mar. 29, 2016 | 060075
Riverside | City of Wildomar (15-09-2570P) | The Honorable Ben Benoit, Mayor, City of Wildomar, 23873 Clinton Keith Road, Suite 201, Wildomar, CA 92595 | City Hall, 23873 Clinton Keith Road, Suite 201, Wildomar, CA 92595 | http://www.msc.fema.gov/lomc | Feb. 26, 2016 | 060221
Sacramento | Unincorporated areas of Sacramento County (15-09-2776P) | The Honorable Phil Serna, Chairman, Board of Supervisors Sacramento County, 700 H Street, Suite 2450, Sacramento, CA 95814 | Municipal Services Agency, Department of Water Resources, 827 7th Street, Suite 301, Sacramento, CA 95814 | http://www.msc.fema.gov/lomc | Feb. 17, 2016 | 060262
San Mateo | Unincorporated areas of San Mateo County (15-09-1770P) | The Honorable Carole Groom, Chair, Board of Supervisors, San Mateo County, 400 County Center, Redwood City, CA 94063 | Planning and Building Department, 455 County Center, Redwood City, CA 94063 | http://www.msc.fema.gov/lomc | Mar. 31, 2016 | 060311
Hawaii: Maui | Maui County (15-09-2997X) | The Honorable Alan Arakawa, Mayor, County of Maui, 200 South High Street, Kalana O Maui Building, 9th Floor, Wailuku, HI 96793 | Planning Department, 250 South High Street, Second Floor, Wailuku, HI 96793 | http://www.msc.fema.gov/lomc | Mar. 28, 2016 | 150003
Nevada: Douglas | Unincorporated areas of Douglas County (15-09-2371P) | The Honorable Doug N. Johnson, Chairman, Board of Supervisors, Douglas County, P.O. Box 218, Minden, NV 89423 | Public Works Department, 1615 Eighth Street, Minden, NV 89423 | http://www.msc.fema.gov/lomc | Mar. 24, 2016 | 320008

[FR Doc. 2016-00869 Filed 1-15-16; 8:45 am]

BILLING CODE 9110-12-P